DEPARTMENT OF THE INTERIOR

Fish and Wildlife Service

[FWS-R3-R-2016-N073; FXRS1261030000-167-FF03R02000]

Glacial Ridge National Wildlife Refuge, Polk County, Minnesota; Draft Comprehensive Conservation Plan and Environmental Assessment

AGENCY: Fish and Wildlife Service, Interior.

ACTION: Notice of availability; request for comments.

SUMMARY: We, the U.S. Fish and Wildlife Service (Service), announce the availability of a draft comprehensive conservation plan (CCP) and environmental assessment (EA) for the Glacial Ridge National Wildlife Refuge (refuge, NWR) for public review and comment. In this draft CCP/EA we describe how we propose to manage the refuge for the next 15 years.

DATES: To ensure consideration, we must receive your written comments by June 20, 2016. We will hold an open house-style meeting during the comment period to receive comments and provide information on the draft plan. In addition, we will use special mailings, newspaper articles, internet postings, and other media announcements to inform people of opportunities for input.

ADDRESSES: Send your comments or requests for more information by any of the following methods:

• Email: r3planning@fws.gov. Include “Glacial Ridge Draft CCP/EA” in the subject line of the message.

• Fax: Attention: Refuge Manager, Glacial Ridge NWR, 218-687-2225.

• U.S. Mail: Attention: Refuge Manager, Glacial Ridge NWR, 17788 349th St. SE., Erskine, MN 56535.

• In-Person Drop Off: You may drop off comments during regular business hours at the above addresses.

You will find the draft CCP/EA, as well as information about the planning process and a summary of the CCP, on the planning Web site at http://www.fws.gov/midwest/planning/glacialridge/index.html.

FOR FURTHER INFORMATION CONTACT: Gregg Knutsen, 218-687-2229 x16.

SUPPLEMENTARY INFORMATION:

Introduction

With this notice, we continue the CCP process for Glacial Ridge National Wildlife Refuge, which we began by publishing a notice of intent in the Federal Register (78 FR 3909) on January 17, 2013. For more about the initial process and the history of this refuge, see that notice.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The draft CCP/EA may be found at http://www.fws.gov/midwest/planning/glacialridge/index.html. That document incorporates an EA, prepared in accordance with the National Environmental Policy Act (NEPA) (43 U.S.C. 4321 et seq.). The draft CCP/EA includes detailed information about the planning process, refuge, issues, and management alternatives considered and proposed. The EA includes discussions of three alternative refuge management options. The Service's preferred alternative is reflected in the draft CCP.

The alternatives analyzed in detail include:

• Alternative A: Current Management (No Action)—This alternative reflects the current management direction of Glacial Ridge NWR. It provides the baseline against which to compare other alternatives. For NEPA purposes, this is referred to as the “No Action” alternative.

• Alternative B: Focused Habitat Management (Preferred Alternative)—Under this alternative, refuge management actions would approximate ecological processes that maintained native habitats prior to European settlement, emphasizing the use of multiple habitat disturbance regimes (e.g., fire, grazing, mowing). These actions would maintain and increase the diversity of native vegetation and wildlife communities that mimic pre-settlement conditions. Management activities would be “focused” via a refuge prioritization effort to maximize the intended impacts on priority units, given reduced refuge staff and funding. Public use opportunities would continue with minimal changes. Staff time and funding would focus on improving opportunities for self-guided interpretation of refuge habitats and wildlife using existing infrastructure.

• Alternative C: Woody Vegetation Reduction Focus—The focus of this alternative would be the reduction of invasive woody vegetation cover (e.g., willow, aspen) across the refuge landscape during the lifespan of this CCP. The extent of woody cover is increasing due to a lack of regular vegetative disturbance and other factors. Management actions would focus on refuge units exhibiting woody vegetation cover that exceeds the amount found prior to European settlement. Public use opportunities would continue with minimal change. Staff time and funding would focus on improving opportunities for self-guided interpretation of refuge habitats and wildlife using existing infrastructure.

Public Involvement

We will give the public an opportunity to provide input at a public meeting. You can obtain the schedule from the address or Web site listed in this notice (see ADDRESSES). You may also submit comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Charles M. Wooley,
Acting Regional Director.

[FR Doc. 2016-11803 Filed 5-18-16; 8:45 am]

BILLING CODE 4333-15-P